DEPARTMENT OF JUSTICE

[OMB Number 1110-0035]

Agency Information Collection Activities; Existing Collection, Comments Requested: The National Instant Criminal Background Check System (NICS) Point-of-Contact (POC) State Final Determination Electronic Submission

ACTION: 30-Day notice.

The Department of Justice (DOJ), Federal Bureau of Investigation (FBI), Criminal Justice Information Services (CJIS) Division's NICS Section will be submitting the following information collection request to the Office of Management and Budget (OMB) for review and approval in accordance with the Paperwork Reduction Act of 1995. The proposed information collection is published to obtain comments from the public and affected agencies. This proposed information collection was previously published in the Federal Register Volume 77, Number 215, Pages 66636-66637, on November 6, 2012, allowing for a 60-day comment period.

The purpose of this notice is to allow for an additional 30 days for public comment until February 11, 2013. This process is conducted in accordance with Title 5, Code of Federal Regulations (CFR), Section 1320.10.

Written comments and/or suggestions regarding the items contained in this notice, especially the estimated public burden and associated response time, should be directed to the Office of Management and Budget, Office of Information and Regulatory Affairs, Attention: Department of Justice Desk Officer, Washington, DC 20503. Additionally, comments may be submitted to the OMB via facsimile at (202) 395-7285.

Written comments and suggestions from the public and affected agencies concerning the proposed collection of information are encouraged. Your comments should address one or more of the following four points:

(1) Evaluate whether the proposed collection of information is necessary for the proper performance of the functions of the agency/component, including whether the information will have practical utility;

(2) Evaluate the accuracy of the agency's/component's estimate of the burden of the proposed collection of the information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Overview of This Information

(1) Type of Information Collection: Approval of an Existing Collection.

(2) Title of the Forms: The National Instant Criminal Background Check System (NICS) Point-of-Contact (POC) State Final Determination Electronic Submission.

(3) Agency Form Number, if any, and the applicable component of the department sponsoring the collection:

Form Number: 1110-0035.

Sponsor: Criminal Justice Information Services (CJIS) Division of the Federal Bureau of Investigation (FBI), Department of Justice (DOJ).

(4) Affected public who will be asked or required to respond, as well as a brief abstract:

Primary: Full Point-of-Contact (POC) States; Partial POC States; the Bureau of Alcohol, Tobacco, Firearms and Explosives (ATF)-qualified Alternate Permit States.

Brief Abstract: This collection is requested of Full POC States; Partial POC States; and the ATF-qualified Alternate Permit States. Per Title 28, Code of Federal Regulations, Section 25.6(h), POC States are required to transmit electronic determination messages to the Federal Bureau of Investigation (FBI) Criminal Justice Information Services Division's National Instant Criminal Background Check System (NICS) Section of the status of a firearm background check in those instances in which a transaction is “open” (transactions unresolved before the end of the operational day on which the transaction was initiated); “denied” transactions; transactions reported to the NICS as open and subsequently changed to proceed; and overturned denials. The POC States must send this response to the NICS immediately upon communicating their determination to the Federal Firearms Licensee or in those cases in which a response has not been communicated, no later than the end of the operational day in which the transaction was initiated. For those responses that are not received, the NICS will assume the transaction resulted in a “proceed.”

(5) An estimate of the total number of respondents and the amount of time estimated for an average respondent to respond: There are 21 POC States who are required to submit electronic notifications to the FBI CJIS Division's NICS Section and 18 ATF-qualified Alternate Permit States voluntarily submit electronic notifications to the FBI CJIS Division's NICS Section. Both POC States and ATF-qualified Permit States conduct an average of 5,859,797 transactions per year. It is estimated that 26 percent would be affected by this collection and would require electronic messages sent to the NICS. This translates to 1,523,547 transactions, which would be the total number of annual responses. The other 74 percent would not be reported in this collection. It is estimated it will require one minute (60 seconds) for each POC State and ATF-qualified Alternate Permit State to transmit the information per transaction to the NICS. Thus, it is estimated that collectively all respondents will spend 25,392 hours yearly submitting determinations to the NICS. If the number of transactions were distributed evenly among the POC States and ATF-qualified Alternate Permit States, then 651 hours would be the estimated time for each of the 39 states to respond. Record-keeping time is part of the routine business process and is not part of this calculation.

(6) An estimate of the total public burden (in hours) associated with the collection:

The average yearly hour burden for submitting final determinations combined is: (5,859,797 total checks × 26 percent)/60 seconds = 25,392 hours.

If additional information is required, contact: Jerri Murray, Department Clearance Officer, United States Department of Justice, Justice Management Division, Policy and Planning Staff, Two Constitution Square, 145 N Street NE., Room 1407B, Washington, DC 20530.

Dated: January 8, 2013.
Jerri Murray,
Department Clearance Officer for PRA, United States Department of Justice.

[FR Doc. 2013-00395 Filed 1-10-13; 8:45 am]

BILLING CODE 4410-02-P